DEPARTMENT OF LABOR

Employment and Training Administration

[TA-W-52,152]

Multilayer Technology (Multek), Inc., a Division of Flextronics International Including Temporary Workers of Atlas Staffing, Inc., Roseville, Minnesota; Amended Certification Regarding Eligibility To Apply for Worker Adjustment Assistance

In accordance with section 223 of the Trade Act of 1974 (19 U.S.C. 2273) the Department of Labor issued a Certification of Eligibility to Apply for Worker Adjustment Assistance on July 25, 2003, applicable to workers of Multilayer Technology (Multek), Inc., a division of Flextronics International, Roseville, Minnesota. The notice was published in the Federal Register on August 14, 2003 (68 FR 48646).

At the request of the State agency, the Department reviewed the certification for workers of the subject firm. Information provided by the company shows that temporary workers of Atlas Staffing, Inc. were employed at Multilayer Technology (Multek), Inc. to produce printed circuit boards at the Roseville, Minnesota location of the subject firm.

Based on these findings, the Department is amending this certification to include temporary workers of Atlas Staffing, Inc. working at Multilayer Technology (Multek), Inc., Roseville, Minnesota.

The intent of the Department's certification is to include all workers of Multilayer Technology (Multek), Inc. who were adversely affected by the shift in production to Brazil, Germany and China.

The amended notice applicable to TA-W-52,152 is hereby issued as follows:

All workers of Multilayer Technology (Multek), Inc., a division of Flextronics International, Roseville, Minnesota, and temporary workers of Atlas Staffing, Inc., Minneapolis, Minnesota producing printed circuit boards at Multilayer Technology (Multek), Inc., Roseville, Minnesota, who became totally or partially separated from employment on or after June 25, 2002, through July 25, 2005, are eligible to apply for adjustment assistance under section 223 of the Trade Act of 1974.

Signed in Washington, DC, this 15th day of December, 2003.
Linda G. Poole,
Certifying Officer, Division of Trade Adjustment Assistance.

[FR Doc. 04-308 Filed 1-6-04; 8:45 am]

BILLING CODE 4510-30-P